DEPARTMENT OF THE INTERIOR

National Park Service

[NPS-WASO-NRNHL-DTS#-36239; PPWOCRADI0, PCU00RP14.R50000]

National Register of Historic Places; Notification of Pending Nominations and Related Actions

AGENCY: National Park Service, Interior.

ACTION: Notice.

SUMMARY: The National Park Service is soliciting electronic comments on the significance of properties nominated before July 15, 2023, for listing or related actions in the National Register of Historic Places.

DATES: Comments should be submitted electronically by August 15, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 15, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

COLORADO

Eagle County

Glassier Farmstead, 0543 Hooks Spur Ln., Basalt vicinity, SG100009260

GEORGIA

Chatham County

Magnolia Park Historic District, Roughly bounded by DeRenne Ave., Latimer and Brogdon Sts., Lovett and Bacon Park Drs., Broadmoor Cir., and Truman Pkwy. Savannah, SG100009267

ILLINOIS

Cook County

Avalon Park Bungalow Historic District, (Chicago Bungalows MPS (Additional Documentation)), Roughly bounded by: East 79th St., South Harper Ave., East 83rd St., and South, Woodlawn Ave., Chicago, MP100009251

Benda House, 211 Southcote Rd., Riverside, SG100009252

Mid-City Trust and Savings Bank, 801 West Madison St., Chicago, SG100009254

Du Page County,

House of Seven Gables, 141 Loretto Ct., Wheaton, SG100009249

Madison County

Collinsville Township High School, 1203 Vandalia St., Collinsville, SG100009253

LOUISIANA

Acadia Parish

Crowley Historic District (Boundary Increase), Roughly bounded by West 7th St., the rear property lines in the 600 blk. of North Parkerson Ave., West 6th St., North Avenue F, and North Avenue G, Crowley, BC100009258

VIRGINIA

Amherst County

Dameron Cottage, 462 South Main St., Amherst, SG100009241

Augusta County

Black Oak Spring, 1709 Dam Town Rd., Fort Defiance vicinity, SG100009242

Russell County

Dante Downtown Historic District, Bunch Town, Straight Hollow, and Lower Bearwallow Rds., Dante, SG100009243

Shenandoah County

Shenvalee Golf Resort, 9660 Fairway Dr., New Market, SG100009244

Smyth County

Southwestern State Hospital Tubercular Building, 281 Bagley Cir., Marion, SG100009245

A request for removal has been made for the following resources:

UTAH

Box Elder County

Box Elder Flouring Mill (Brigham City MPS), 327 East 200 North, Brigham City, OT89000452

Iron County

ood, George H., House, 432 North Main St., Cedar City, OT78002662

Salt Lake County

Pantages Theatre, 144 South Main St., Salt Lake City, OT100007291

Shubrick Hotel (Salt Lake City Business District MRA), 68 West Four Hundred South, Salt Lake City, OT82005107

Sevier County

Salina Hospital, 330 West Main St., Salina, OT80003966

Utah County

Bunnell, Stephen and Mary, House 970 South 800 West, Utah Valley State College, Orem, OT96001171

Additional documentation has been received for the following resources:

LOUISIANA

Acadia Parish

Crowley Historic District (Additional Documentation), LA 13 and US 90, Crowley, AD82002751

NORTH CAROLINA

Onslow County

Swansboro Historic District (Additional Documentation) (Onslow County MPS) Roughly bounded by Walnut, Main, and Elm Sts., NC 24, White Oak River, and Church, Water, and Broad Sts., Swansboro, AD90000440

Authority: Section 60.13 of 36 CFR part 60.

Dated: July 19, 2023.
Sherry A. Frear,
Chief, National Register of Historic Places/National Historic Landmarks Program.

[FR Doc. 2023-16106 Filed 7-28-23; 8:45 am]

BILLING CODE 4312-52-P